DEPARTMENT OF TRANSPORTATION

Federal Transit Administration

[Docket Number: FTA-2016-0044 ]

Notice of Availability of Programmatic Assessment of Greenhouse Gas Emissions From Transit Projects

AGENCIES: Federal Transit Administration (FTA), DOT.

ACTION: Notice of availability; Request for comments.

SUMMARY: The Federal Transit Administration (FTA) announces the availability of a draft Programmatic Assessment of Greenhouse Gas Emissions from Transit Projects (Programmatic Assessment) and an accompanying Greenhouse Gas Emissions (GHG) Estimator Tool (Estimator Tool). The purpose of the draft Programmatic Assessment is to: (1) Report on whether certain types of proposed transit projects merit detailed analysis of their GHG emissions at the project-level; and (2) provide a source of data and analysis for FTA and its grantees to reference in future environmental documents for projects where detailed, project-level GHG analysis would provide limited information beyond what is collected and considered in the assessment. The draft Programmatic Assessment presents estimates of GHG emissions generated from the construction, operations, and maintenance phases of projects across select transit modes, as well as an estimate of personal vehicle emissions displaced due to transit's “ridership effect.” The associated Estimator Tool is a spreadsheet tool that allows users to calculate partial lifecycle GHG emissions estimates by transit mode based on limited data inputs. FTA's draft Programmatic Assessment or Estimator Tool is not a requirement; agencies and states may use other methods for reporting GHG emissions related to state GHG reporting regulations, as needed and as appropriate. Use of FTA's draft Programmatic Assessment or Estimator Tool is not a requirement, if agencies and states are utilizing other methods for reporting GHG emissions related to state GHG reporting regulations. The FTA requests public comments on the Programmatic Assessment and the Estimator Tool.

DATES: Comments must be received by January 6, 2017. Late filed comments will be considered to the extent practicable.

ADDRESSES: You may submit comments to Docket No. FTA-2016-0044 by any of the following methods:

Federal eRulemaking Portal: Go to www.regulations.gov and follow the online instructions for submitting comments.

Mail: Docket Management Facility: U.S. Department of Transportation, 1200 New Jersey Avenue SE., West Building Ground Floor, Room W12-140, Washington, DC 20590-0001.

Hand Delivery or Courier: West Building Ground Floor, Room W12-140, 1200 New Jersey Avenue SE., Washington, DC, between 8:30 a.m. and 4:30 p.m. e.t., Monday through Friday, except Federal holidays.

Fax: (202) 493-2251.

Instructions: You must include the agency name (Federal Transit Administration) and the Docket Number of this notice at the beginning of your comments. Note that all comments received will be posted without change to www.regulations.gov, including any personal information provided. You may review DOT's complete Privacy Act Statement published in the Federal Register on April 11, 2000 (65 FR 19477).

FOR FURTHER INFORMATION CONTACT: Maya Sarna, Office of Environmental Programs, (202) 366-5811, or Christopher Van Wyk, Office of Environmental Programs, (202) 366-1733; Helen Serassio, Office of Chief Counsel, (202) 366-1974. FTA is located at 1200 New Jersey Avenue SE., Washington, DC 20590. Office hours are from 9:00 a.m. to 5:00 p.m. ET, Monday through Friday, except Federal holidays.

SUPPLEMENTARY INFORMATION:

Background

In August 2016, the Council on Environmental Quality (CEQ) released its Final Guidance for Federal Departments and Agencies on Consideration of Greenhouse Gas Emissions and the Effects of Climate Change in National Environmental Policy Act (NEPA) Reviews. The guidance provides a framework for agencies to consider the effects of a proposed action on climate change, as indicated by its estimated GHG emissions. The CEQ guidance notes that an agency may decide, rather than analyze GHG emissions project-by-project, that it would be useful and efficient to provide an aggregate analysis of GHG emissions or climate change effects through programmatic analysis and then incorporate that analysis by reference into future NEPA reviews. FTA currently considers it practicable to assess the effects of GHG emissions and climate change for a variety of transit projects at a programmatic level.

The purpose of the Programmatic Assessment of Greenhouse Gas Emissions from Transit Projects is to: (1) Report on whether certain types of proposed transit projects merit detailed analysis of their GHG emissions at the project-level; and (2) provide a source of data and analysis for FTA and its grantees to reference in future environmental documents for projects where detailed, project-level GHG analysis would provide only limited information beyond what is collected and considered in the assessment. The Programmatic Assessment presents results from an analysis to estimate direct and indirect GHG emissions generated from the construction, operations, and maintenance phases of projects across select transit modes. The findings provide a reference for FTA and its grantees to use in future NEPA documents to describe the potential effects of proposed transit investments on partial lifecycle GHG emissions. This assessment's results can inform transit project sponsors who are considering the implications of GHG emissions of future transit investments or who might independently want to evaluate the greenhouse gas emissions benefits and cost of such investments. As part of the draft Programmatic Assessment, FTA developed the Estimator Tool. The Estimator Tool is a spreadsheet based tool that allows users to calculate partial lifecycle GHG emissions estimates by transit mode for the construction, maintenance, and operations phases of transit project development, as well as an estimate of personal vehicle emissions displaced due to transit's “ridership effect.”

FTA requests comments on the draft Programmatic Assessment and the accompanying Estimator Tool, which are available on the docket. Comments can be made in the docket (FTA-2016-0044). FTA will respond to comments received on the draft Programmatic Assessment and Estimator Tool in a second Federal Register notice to be published after the comment period closes. That second notice will also announce the availability of a final Programmatic Assessment and the Estimator Tool that reflects any changes implemented as a result of comments received.

Authority: 42 U.S.C. 4321 et seq.; 40 CFR 1507.3; 49 CFR 1.81(a)(5).

Lucy Garliauskas,
Associate Administrator, Office of Planning and Environment, Federal Transit Administration.

[FR Doc. 2016-28104 Filed 11-21-16; 8:45 am]

BILLING CODE 4910-57-P